ENVIRONMENTAL PROTECTION AGENCY

[EPA-HQ-OAR-2003-0073; FRL-9993-78-OMS]

Information Collection Request Submitted to OMB for Review and Approval; Comment Request; Distribution of Offsite Consequence Analysis Information Under Section 112(r)(7)(H) of the Clean Air Act (CAA), as Amended (Renewal)

AGENCY: Environmental Protection Agency (EPA).

ACTION: Notice.

SUMMARY: The Environmental Protection Agency (EPA) has submitted an information collection request (ICR), Distribution of Offsite Consequence Analysis Information under Section 112(r)(7)(H) of the Clean Air Act (CAA), as amended, (EPA ICR Number 1981.07, OMB Control Number 2050-0172), to the Office of Management and Budget (OMB) for review and approval in accordance with the Paperwork Reduction Act. This is a proposed extension of the ICR, which is currently approved through May 19, 2019. Public comments were previously requested via the Federal Register on November 23, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before July 1, 2019.

ADDRESSES: Submit your comments, referencing Docket ID Number EPA-HQ-OAR-2003-0073 to (1) EPA online using www.regulations.gov (our preferred method), by email to superfund.docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Wendy Hoffman, Office of Emergency Management, Mail Code 5104A, Environmental Protection Agency, 1200 Pennsylvania Ave. NW, Washington, DC 20460; telephone number: (202) 564-8794; fax number: (202) 564-2620; email address: hoffman.wendy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR renewal is for the collection developed to support the final rule, Accidental Release Prevention Requirements; Risk Management Programs Under the Clean Air Act Section 112(r)(7); Distribution of Off-Site Consequence Analysis Information, published on August 4, 2000 (65 FR 48108), defines the Federal Government's responsibilities with respect to the dissemination of offsite consequence analyses (OCA) information to the public. OCA information is received by the EPA within risk management plans (RMPs) collected in service to the Agency's mandate to promulgate reasonable regulations and appropriate guidance to provide for the prevention and detection of accidental releases and for responses to such releases under CAA section 112(r)(7).

In accordance with the final rule, the government established 55 reading rooms at federal facilities geographically distributed across the United States and its territories. At these reading rooms, members of the public are able to read OCA information for stationary sources (up to 10 per month), for the Local Emergency Planning Committees (LEPCs) in whose jurisdiction they live or work, and for any other stationary sources with vulnerability zones extending into their LEPC's jurisdiction. Individuals anywhere may use the Vulnerable Zone Indicator System (VZIS) to find out whether a specified address is within the vulnerable zone of one or more stationary sources.

The final rule also authorizes and encourages state and local government officials to have access to OCA information relevant to their jurisdiction, both for their own official use and to appropriately disseminate to the local public population.

This ICR is intended to renew EPA's approval to carry out the recordkeeping and reporting requirements crated by the final rule as it defines the practices that state and local officials need to follow in order to share the data they have and the specific procedures that different categories of individuals need to follow in order to request information, certify their identity, and receive OCA data.

Form Numbers: None.

Respondents/affected entities: State and local agencies and the public.

Respondent's obligation to respond: Required to obtain or retain a benefit (40 CFR 1400).

Estimated number of respondents: 315 (total).

Frequency of response: As necessary.

Total estimated burden: 367 hours (per year). Burden is defined at 5 CFR 1320.03(b).

Total estimated cost: $16,252 (per year), includes $23 annualized capital or operation & maintenance costs.

Changes in the Estimates: This ICR renewal includes a significant decrease in the estimated burden compared to the previous ICR renewal. The burden reduction is attributable to the reduced number of reading room visits by the public, the reduced number of letters of request for OCA from state and local governments and LEPCs, and a reduced number of public meetings assumed to be held by LEPCs resulting from the lower of letters of request submitted by LEPCs. To a large extent, the reductions are the result of the respondents increasingly obtaining the OCA data through electronic methods, for example, through rtk.net, RMP*Info and RMP Data Download.

Courtney Kerwin,
Director, Regulatory Support Division.

[FR Doc. 2019-11271 Filed 5-29-19; 8:45 am]

BILLING CODE 6560-50-P